FEDERAL COMMUNICATIONS COMMISSION

Information Collections Being Reviewed by the Federal Communications Commission Under Delegated Authority

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before November 13, 2012. If you anticipate that you will be submitting comments, but find it difficult to do so within the period of time allowed by this notice, you should advise the contact listed below as soon as possible.

ADDRESSES: Direct all PRA comments to the Federal Communications Commission via email to PRA@fcc.gov and Cathy.Williams@fcc.gov.

FOR FURTHER INFORMATION CONTACT: For additional information about the information collection, contact Cathy Williams at (202) 418-2918.

SUPPLEMENTARY INFORMATION:

OMB Control No.: 3060-0955.

Title: 2 GHz Mobile Satellite Service Reports, 47 CFR 25.114; 25.115; 25.133; 25.137; 25.143; 25.203 and 25.279.

Form No.: Not Applicable.

Type of Review: Extension of a currently approved information collection.

Respondents: Business or other for-profit.

Number of Respondents: 9 respondents; 81 responses.

Estimated Time per Response: 1-8 hours per response.

Frequency of Response: On occasion and annual reporting requirements; Third party disclosure requirement.

Obligation to Respond: Required to obtain or retain benefits. The statutory authority for this collection is contained in Sections 4(i), 7(a), 303(c), 303(f), 303(g) and 303(r) of the Communications Act of 1934, as amended, 47 U.S.C. 154(i), 157(a), 303(c), 303(f), 303(g) and 303(r).

Total Annual Burden: 189 hours.

Annual Cost Burden: $36,450.

Privacy Act Impact Assessment: No impact(s).

Nature and Extent of Confidentiality: In general, there is no need for confidentiality with this collection of information.

Needs and Uses: This collection will be submitted to the Office of Management and Budget (OMB) as an extension following the 60-day comment period in order to obtain the full three-year clearance from OMB.

This information collection addresses the licensing and service rules for entities to provide Mobile Satellite Service in the 2 GHz Band, specifically the 1990-2025 MHz and 2165-2200 MHz frequency bands. The information will be used by the Commission staff in carrying out its duties under the Communications Act of 1934, as amended, and to ensure the public interest, safety and convenience are served. Without such information, the Commission could not determine whether to permit the respondents to provide telecommunications services in the United States and, therefore, fulfill its statutory responsibilities in accordance with the Communications Act of 1934, as amended.

OMB Control No.: 3060-0994.

Title: Flexibility for Delivery of Communications by Mobile Satellite Service Providers in the 2 GHz Band, the L Band, and the 1.6/2.4 GHz Band.

Form No.: Not Applicable.

Type of Review: Extension of a currently approved information collection.

Respondents: Business or other for-profit.

Number of Respondents: 141 respondents; 141 responses.

Estimated Time per Response: .50-50 hours per response.

Frequency of Response: On occasion, one time and annual reporting requirements, third-party disclosure and recordkeeping requirements.

Obligation to Respond: Required to obtain or retain benefits. The statutory authority for this collection is contained in Sections 4(i), 7, 302, 303(c), 303(e), 303(f) and 303(r) of the Communications Act of 1934, as amended; 47 U.S.C. 154(i), 157, 302, 303(c), 303(e), 303(f) and 303(r).

Total Annual Burden: 685 hours.

Annual Cost Burden: $544,560.

Privacy Act Impact Assessment: No impact(s).

Nature and Extent of Confidentiality: In general, there is no need for confidentiality with this collection of information.

Needs and Uses: This collection will be submitted to the Office of Management and Budget (OMB) as an extension following the 60-day comment period in order to obtain the full three-year clearance from OMB.

The purposes of this information collections are to license commercial satellite services in the United States; obtain the legal and technical information required to facilitate the integration of Ancillary Terrestrial Components (ATCs) into Mobile Satellite Service (MSS) networks in the 2 GHz band, the L-Band and the 1.6/2.4 GHz Bands; and to ensure that the licensees meet the Commission's legal and technical requirements to develop and maintain MSS networks while conserving limited spectrum for other telecommunications services. This information is used by the Commission to license commercial satellite services in the United States. Without the collection of information, the Commission would not have the information necessary to grant entities the authority to operate commercial satellite stations and provide telecommunications services to consumers.

OMB Control No.: 3060-1054.

Title: Application for Renewal of an International Broadcast Station License.

Form No.: Form 422-IB.

Type of Review: Extension of a currently approved information collection.

Respondents: Business or other for-profit.

Number of Respondents: 10 respondents; 50 responses.

Estimated Time per Response: 1-8 hours per response.

Frequency of Response: On occasion reporting requirement; Recordkeeping requirement.

Obligation to Respond: Required to obtain or retain benefits. The statutory authority for this collection is contained in 47 U.S.C. 154, 303, 334, 336 and 339.

Total Annual Burden: 160 hours.

Annual Cost Burden: $36,000.

Privacy Act Impact Assessment: No impact(s).

Nature and Extent of Confidentiality: In general, there is no need for confidentiality with this collection of information.

Needs and Uses: This collection will be submitted to the Office of Management and Budget (OMB) as an extension following the 60-day comment period in order to obtain the full three-year clearance from OMB.

The Federal Communications Commission (“Commission”) plans to implement and release to the public an “Application for Renewal of an International Broadcast Station License (FCC Form 422-IB).” The form has not been implemented yet due to a lack of budget resources and technical staff. After the FCC Form 422-IB has been implemented and the Commission receives final approval from OMB, applicants will complete the FCC Form 422-IB in lieu of the “Application for Renewal of an International or Experimental Broadcast Station License,” (FCC Form 311). In the interim, applicants will continue to file the FCC Form 311 with the Commission. (Note: The OMB approved the FCC Form 311 under OMB Control No. 3060-1035).

The Commission stated previously that the FCC Form 422-IB will be available to applicants in the International Bureau Filing System (“MyIBFS”) after it is implemented. However, the Commission plans to develop a new Consolidated Licensing System (CLS) within the next five years that will replace MyIBFS. Therefore, the FCC Form 422-IB will be made available to the public in CLS instead of MyIBFS.

The information collected pursuant to the rules set forth in 47 CFR Part 73, Subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control No.: 3060-1056.

Title: Application for International Broadcast Station License.

Form No.: FCC Form 421-IB.

Type of Review: Extension of a currently approved information collection.

Respondents: Business or other for-profit.

Number of Respondents: 10 respondents; 10 responses.

Estimated Time per Response: 6 hour per response.

Frequency of Response: On occasion reporting requirement.

Obligation to Respond: Required to obtain or retain benefits. The statutory authority for this information collection is contained in 47 U.S.C. 154, 303, 334, 336 and 339.

Total Annual Burden: 60 hours.

Annual Cost Burden: $40,500.

Privacy Act Impact Assessment: No impact(s).

Nature and Extent of Confidentiality: In general, there is no need for confidentiality with this collection of information.

Needs and Uses: This collection will be submitted to the Office of Management and Budget (OMB) as an extension following the 60-day comment period in order to obtain the full three-year clearance from OMB.

The Federal Communications Commission (“Commission”) plans to implement and release to the public an “Application for an International Broadcast Station License” (FCC Form 421-IB). The FCC Form 421-IB will be used by applicants to request licenses to operate international broadcast stations. The FCC Form 421-IB has not been implemented yet due to a lack of budget resources and technical staff. After the form has been implemented and the Commission has obtained final approval from the OMB, applicants will file the FCC Form 421-IB with the Commission in lieu of the ”Application for an International, Experimental Television, Experimental Facsimile, or a Developmental Broadcast Station,” (FCC Form 310).

(Note: The Commission received approval from the OMB for the FCC Form 310 under OMB Control No 3060-1035). In the interim, applicants will continue to file the FCC Form 310 with the Commission.

The Commission stated previously that the FCC Form 421-IB will be available to applicants in the International Bureau Filing System (“MyIBFS”) after its development. The Commission plans to develop a new Consolidated Licensing System (CLS) that will replace MyIBFS. Therefore, the FCC Form 421-IB will be made available to the public in CLS instead of MyIBFS.

The information collected is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control No.: 3060-1057.

Title: Application for Authority to Construct or Make Changes in an International Broadcast Station.

Form No.: FCC Form 420-IB.

Type of Review: Extension of a currently approved information collection.

Respondents: Business or other for-profit.

Number of Respondents: 10 respondents; 10 responses.

Estimated Time per Response: 6 hours per response.

Frequency of Response: On occasion reporting requirement.

Obligation to Respond: Required to obtain or retain benefits. The statutory authority for this information collection is contained in 47 U.S.C. 154, 303, 334, 336 and 339.

Total Annual Burden: 60 hours.

Annual Cost Burden: $46,050.

Privacy Act Impact Assessment: No impact(s).

Nature and Extent of Confidentiality: In general, there is no need for confidentiality with this collection of information.

Needs and Uses: This collection will be submitted to the Office of Management and Budget (OMB) as an extension following the 60-day comment period in order to obtain the full three-year clearance from OMB.

The Federal Communications Commission (“Commission”) received approval from the OMB to develop a new application titled, “Application for Authority to Construct or Make Changes in an International Broadcast Station (FCC Form 420-IB)” to request authority from the Commission to construct or make changes in an international broadcast station. This application has not been implemented and released to the public yet due to a lack of budget resources and technical staff. After the FCC Form 420-IB has been implemented and the Commission has obtained final approval from the OMB, it will be completed by international broadcasters in lieu of the “Application for Authority to Construct or Make Changes in an International, Experimental Television, Experimental Facsimile, or a Developmental Broadcast Station,” (FCC Form 309). In the interim, applicants will continue to file the FCC Form 309 with the Commission. (Note: The OMB approved the FCC Form 309 under OMB Control No. 3060-1035.

The Commission stated previously that the FCC Form 420-IB will be available to applicants in the International Bureau Filing System (“MyIBFS”) after its development. Within the next five years, the agency will develop a new Consolidated Licensing System that will replace MyIBFS. Therefore, the FCC Form 420-IB will be made available to the public in CLS instead of MyIBFS.

The information collected pursuant to the rules set forth in 47 CFR Part 73, Subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control No.: 3060-1059.

Title: Global Mobile Personal Communications by Satellite (GMPCS)/E911 Call Centers.

Form No.: Not Applicable.

Type of Review: Extension of a currently approved information collection.

Respondents: Business or other for-profit.

Number of Respondents and Responses: 25 respondents; 25 responses.

Estimated Time per Response: 1 hour.

Frequency of Response: Annual reporting requirement and recordkeeping requirement.

Obligation to Respond: Required to obtain or retain benefits. The statutory authority for this information collection is contained in 47 USC 154, 301, 302, 303, 307, 309 and 332.

Total Annual Burden: 25 hours.

Annual Cost Burden: $7,500.

Privacy Act Impact Assessment: No impact(s).

Nature and Extent of Confidentiality: There is no need for confidentiality with this collection of information.

Needs and Uses: This collection will be submitted as an extension after this 60 day comment period to Office of Management and Budget (OMB) in order to obtain the full three year clearance from them. The information collection requirements under this OMB control number (3060-1059) are used by the Commission under its authority to license commercial satellite services in the United States pursuant to 47 CFR Part 25. Additionally, the Commission has the authority to ensure that Mobile Satellite Service (MSS) providers establish and maintain Emergency Call Center Service pursuant to 47 CFR 25.284. The recordkeeping and reporting requirements include data on MSS call center usage such as the aggregate number of calls that the call centers receive and the number of calls that required forwarding to a local Public Safety Answering Point (PSAP). The Commission uses this data to monitor compliance with the call center requirement and track usage trends. Such information is useful to the Commission in considering whether FCC rules require modification to accommodate the changing market. Without this collection of information that result from these rules, the Commission would not be able to monitor the MSS carriers' establishment of call centers which are essential to provide emergency services, such as handling emergency 911 telephone calls from American citizens.

OMB Control No.: 3060-1063.

Title: Global Mobile Personal Communications by Satellite (GMPCS) Authorization, Marketing and Importation Rules.

Form No.: Not Applicable.

Type of Review: Extension of a currently approved information collection.

Respondents: Business or other for-profit.

Number of Respondents: 19 respondents; 19 responses.

Estimated Time per Response: 1-24 hours per response.

Frequency of Response: On occasion reporting requirement.

Obligation to Respond: Mandatory. The Commission has authority for this information collection pursuant to Sections 4(i), 301, 302(a), 303(e), 303(f), 303(g), 303(n) and 303(r) of the Communications Act of 1934, as amended; 47 U.S.C. 4(i), 301, 302(a), 303(e), 303(f), 303(g), 303(n) and 303(r).

Total Annual Burden: 684 hours.

Annual Cost Burden: $11,685.

Privacy Act Impact Assessment: No impact(s).

Nature and Extent of Confidentiality: In general, there is no need for confidentiality with this collection of information.

Needs and Uses: This collection will be submitted to the Office of Management and Budget (OMB) as an extension (no change in requirements) after this 60-day comment period has ended in order to obtain the full three year OMB clearance.

The purpose of this information collection is to maintain OMB approval of a certification requirement for portable GMPCS transceivers to prevent interference, reduce radio-frequency (“RF”) radiation exposure risk, and make regulatory treatment of portable GMPCS transceivers consistent with treatment of similar terrestrial wireless devices, such as cellular phones.

The Commission is requiring that applicants obtain authorization for the equipment by submitting an application and exhibits, including test data. If the Commission did not obtain such information, it would not be able to ascertain whether the equipment meets the FCC's technical standards for operation in the United States. Furthermore, the data is required to ensure that the equipment will not cause catastrophic interference to other telecommunications services that may impact the health and safety of American citizens.

OMB Control No.: 3060-1066.

Title: Renewal of Application for Satellite Space and Earth Station Authorization.

Form No.: FCC Form 312-R.

Type of Review: Extension of a currently approved information collection.

Respondents: Business or other for-profit.

Number of Respondents: 6 respondents; 6 responses.

Estimated Time per Response: 2 hours per response.

Frequency of Response: On occasion reporting requirement.

Obligation to Respond: Required to obtain or retain benefits. The Commission has authority for this information collection under Sections 4(i), 7(a), 303(c), 303(f), 303(g) and 303(r) of the Communications Act of 1934, as amended; 47 U.S.C. 154(i), 157(a), 303(c), 303(f), 303(g) and 303(r).

Total Annual Burden: 12 hours.

Annual Cost Burden: $2,700.

Privacy Act Impact Assessment: No impact(s).

Nature and Extent of Confidentiality: In general, there is no need for confidentiality with this collection of information.

Needs and Uses: This collection will be submitted to the Office of Management and Budget (OMB) as an extension following the 60-day comment period in order to obtain the full three-year clearance from OMB.

The Commission is requesting continued OMB approval of the application titled, “Renewal of Application for Satellite Space and Earth Station Authorization (FCC Form 312-R). The FCC Form 312-R is used by earth station licensees to request renewals of their applications. Currently, this application is available in MyIBFS. However, the Commission plans to develop a new Consolidated Licensing System (CLS) that will replace MyIBFS. Therefore, the FCC Form 312-R will be made available to the public in CLS instead of MyIBFS.

This collection is used by the Commission staff in carrying out its duties concerning satellite communications as required by Sections 301, 308, 309 and 310 of the Communications Act, 47 U.S.C. 301, 308, 309, 310. This collection is also used by the Commission staff in carrying out its duties under the World Trade Organization (WTO) Basic Telecom Agreement.

The information collection requirements accounted for in this collection are necessary to determine the technical and legal qualifications of applicants or licensees to operate a station, transfer or assign a license, and to determine whether the authorization is in the public interest, convenience and necessity. Without such information, the Commission could not determine whether to permit respondents to provide telecommunication services in the U.S. Therefore, the Commission would be unable to fulfill its statutory responsibilities in accordance with the Communications Act of 1934, as amended, and the obligations imposed on parties to the WTO Basic Telecom Agreement.

OMB Control Number: 3060-1067.

Title: Qualification Questions (FCC Form 312-EZ).

Form No.: FCC Form 312-EZ.

Type of Review: Extension of a currently approved information collection.

Respondents: Business or other for-profit.

Number of Respondents/Responses: 64 respondents; 64 responses.

Estimated Time per Response: 10 hours.

Frequency of Response: One time reporting requirement.

Obligation to Respond: Required to obtain or retain benefits. The Commission has authority for this information collection under Sections 4(i), 7(a), 303(c), 303(f), 303(g), and 303(r) of the Communications Act of 1934, as amended, 47 U.S.C. 154(i), 157(a), 303(c), 303(f), 303(g), and 303(r).

Total Annual Burden: 640 hours.

Annual Cost Burden: $163,680.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The Federal Communications Commission (”Commission”) is requesting continued OMB approval of the application,”Qualification Questions” (FCC Form 312-EZ) used by applicants for C-band and Ku-band earth stations (non-common carrier applicants) that are eligible for the”auto-grant” procedure. Under the “autogrant process,” the International Bureau automatically grants”routine” earth station applications proposing to use the C-band or Ku-band. By “routine,” we mean consistent with all the technical requirements in Part 25 applicable to earth stations.

This collection is used by the Commission staff in carrying out its duties concerning satellite communications as required by Sections 301, 308, 309 and 310 of the Communications Act, 47 U.S.C. 301, 308, 309, 310. This collection is also used by the Commission staff in carrying out its duties under the World Trade Organization (WTO) Basic Telecom Agreement.

The information collection requirements accounted for in this collection are necessary to determine the technical and legal qualifications of applicants or licensees to operate a station, transfer or assign a license, and to determine whether the authorization is in the public interest, convenience and necessity. Without such information, the Commission could not determine whether to permit respondents to provide telecommunication services in the U.S. Therefore, the Commission would be unable to fulfill its statutory responsibilities in accordance with the Communications Act of 1934, as amended, and the obligations imposed on parties to the WTO Basic Telecom Agreement.

OMB Control Number: 3060-1108.

Title: Consummation of Assignments and Transfers of Control of Authorization.

Form No.: Not Applicable.

Type of Review: Extension of a currently approved information collection.

Respondents: Business or other for-profit.

Number of Respondents/Responses: 468 respondents; 468 responses.

Estimated Time per Response: 1 hour.

Frequency of Response: On occasion reporting requirement.

Obligation to Respond: Required to obtain or retain benefits. The Commission has authority for this information collection pursuant to 47 U.S.C. 154(i) and 47 CFR Sections 1.767, 25.119, 63.24(e)(4), 73.3540 and 73.3541.

Total Annual Burden: 468 hours.

Annual Cost Burden: $140,400.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The purpose of this information collection is to request continued OMB approval of a module in the International Bureau Filing System (“MyIBFS”) to facilitate the consummation of Assignments and Transfers of Control of Authorization. A consummation is a party's notification to the Commission that a transaction (assignment or transfer of control of authorization) has been completed. A consummation is applicable to all international telecommunications and satellite services, including International High Frequency (IHF), Section 214 Applications (ITC), Satellite Space Stations (SAT), Submarine Cable Landing Licenses (SCL) and Satellite Earth Station (SES) licenses.

Without this collection of information, the Commission would not have critical information such as a change in a controlling interest in the ownership of the licensee. The Commission would not be able to carry out its duties under the Communications Act and to determine the qualifications of applicants to provide international telecommunications service, including applicants that are affiliated with foreign entities, and to determine whether and under what conditions the authorizations are in the public interest, convenience, and necessity. Furthermore, without this collection of information, the Commission would not be able to maintain effective oversight of U.S. providers of international telecommunications services that are affiliated with, or involved in certain co-marketing or similar arrangements with, foreign entities that have market power.

OMB Control Number: 3060-1133

Title: Application for Permit to Deliver Programs to Foreign Broadcast Stations (FCC Form 308); 47 CFR Section 73.3545 and 73.3580.

Form No.: FCC Form 308.

Type of Review: Extension of a currently approved information collection.

Respondents: Business or other for-profit entities.

Number of Respondents/Responses: 26 respondents; 70 responses.

Estimated Time per Response: 1-2 hours.

Obligation To Respond: Required to obtain or retain benefits. The statutory authority for this collection is contained in Section 325(c) of the Communications Act of 1934, as amended.

Total Annual Burden: 73 hours.

Annual Cost Burden: $26,451.

Privacy Act Impact Assessment: No impact(s).

Nature and Extent of Confidentiality: In general, there is no need for confidentiality with this collection of information.

Needs and Uses: The Federal Communications Commission (“Commission”) is requesting that the Office of Management and Budget (OMB) approve the establishment of a new information collection titled, “Application for Permit to Deliver Programs to Foreign Broadcast Stations (FCC Form 308).” Applicants use the FCC Form 308 to apply, under Section 325(c) of the Communications Act of 1934, as amended, for authority to locate, use, or maintain a studio in the United States for the purpose of supplying program material to a foreign radio or TV broadcast station whose signals are consistently received in the United States, or for extension of existing authority.

Currently, the FCC Form 308 is only available to the public in paper form. The Commission is requesting OMB approval of a revised FCC Form 308, in Excel format, that will be made available to the public on the FCC Forms page of the FCC's Web site, www.fcc.gov. The form was revised to make it more user friendly and to include questions to obtain only the legal and technical information that is essential to grant authority to U.S. broadcasters to supply program material to a foreign radio or TV broadcast station whose signals are consistently received in the U.S. or to extend the current authority. After the applicant completes the form, it is mailed to the U.S. Bank along with the application fee. Then, it is forwarded to the International Bureau with the exception of fee exempt applications which are filed directly with the FCC Secretary's Office and then forwarded to the Bureau.

Without this collection of information, the Commission would not be able to ascertain whether the main studio owner in the U.S. meets various legal requirements or the foreign broadcast facility, which receives and retransmits programming from the main studio in the U.S., meets various technical requirements that prevent harmful interference to other broadcast stations or telecommunications facilities.

Federal Communications Commission.
Bulah P. Wheeler,
Associate Secretary, Office of the Secretary, Office of Managing Director.

[FR Doc. 2012-22263 Filed 9-10-12; 8:45 am]

BILLING CODE 6712-01-P